DEPARTMENT OF HOMELAND SECURITY

Federal Emergency Management Agency

44 CFR Part 65

[Docket ID FEMA-2011-0002; Internal Agency Docket No. FEMA-B-1201]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Deputy Federal Insurance and Mitigation Administrator reconsider the changes. The modified BFEs may be changed during the 90-day period.

ADDRESSES: The modified BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities. The changes in BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Delaware:
New Castle | Town of Odessa (11-03-0744P) | March 31, 2011; April 7, 2011; The Middletown Transcript | The Honorable Kathy Harvey, Mayor, Town of Odessa, P.O. Box 111, Odessa, DE 19730 | August 5, 2011 | 100066
New Castle | Unincorporated areas of New Castle County (10-03-1927P) | January 7, 2011; January 14, 2011; The News Journal | The Honorable Paul G. Clark, New Castle County Executive, 87 Reads Way, New Castle, DE 19720 | May 16, 2011 | 105085
New Mexico: Santa Fe | City of Santa Fe (10-06-2026P) | March 3, 2011; March 10, 2011; The Santa Fe New Mexican | The Honorable David Coss, Mayor, City of Santa Fe, 200 Lincoln Avenue, Santa Fe, NM 87504 | February 24, 2011 | 350070
Oklahoma:
Cleveland | City of Norman (10-06-1004P) | October 6, 2010; October 13, 2010; The Norman Transcript | The Honorable Cindy S. Rosenthal, Mayor, City of Norman, 201 West Gray Street, Norman, OK 73069 | September 29, 2010 | 400046
Kay | City of Ponca City (10-06-2643P) | March 14, 2011; March 21, 2011; The Ponca City News | The Honorable Homer Nicholson, Mayor, City of Ponca City, 516 East Grand Avenue, Ponca City, OK 74601 | July 19, 2011 | 400080
Oklahoma | City of Oklahoma City (10-06-1884P) | March 30, 2011; April 6, 2011; The Journal Record | The Honorable Mick Cornett, Mayor, City of Oklahoma City, 200 North Walker Avenue, 3rd Floor, Oklahoma City, OK 73102 | July 28, 2011 | 405378
Osage and Tulsa | Town of Skiatook (10-06-0568P) | February 23, 2011; March 2, 2011; The Skiatook Journal | The Honorable Steve Kendrick, Mayor, Town of Skiatook, P.O. Box 399, Skiatook, OK 74070 | June 30, 2011 | 400212
Tulsa | Unincorporated areas of Tulsa County (10-06-1294P) | March 23, 2011; March 30, 2011; The Tulsa World | The Honorable Fred Perry, Chairman, Tulsa County Board of Commissioners, 500 South Denver Avenue West, Tulsa, OK 74103 | April 18, 2011 | 400462
Pennsylvania:
Cumberland | Township of Upper Allen (10-03-1016P) | November 15, 2010; November 22, 2010; The Patriot-News | The Honorable James G. Cochran, President, Township of Upper Allen Board of Commissioners, 100 Gettysburg Pike, Mechanicsburg, PA 17055 | March 22, 2011 | 420372
McKean | Borough of Port Allegany (10-03-1879P) | March 24, 2011; March 31, 2011; The Reporter Argus | The Honorable Donald G. Carley, Mayor, Borough of Port Allegany, 45 West Maple Street, Port Allegany, PA 16743 | April 18, 2011 | 420671
McKean | Township of Liberty (10-03-1879P) | March 24, 2011; March 31, 2011; The Reporter Argus | The Honorable Gary L. Turner, Chairman, Township of Liberty Board of Supervisors, 21514 Route 6, Port Allegany, PA 16743 | April 18, 2011 | 420668
Texas:
Bexar | City of San Antonio (09-06-3178P) | April 6, 2011; April 13, 2011; The Hart Beat | The Honorable Julian Castro, Mayor, City of San Antonio, P.O. Box 839966, San Antonio, TX 78283 | March 30, 2011 | 480045
Bexar | City of San Antonio (10-06-1080P) | February 11, 2011; February 18, 2011; The San Antonio Express-News | The Honorable Julian Castro, Mayor, City of San Antonio, P.O. Box 839966, San Antonio, TX 78283 | February 4, 2011 | 480045
Bexar | City of San Antonio (10-06-3684P) | April 6, 2011; April 13, 2011; The San Antonio Express-News | The Honorable Julian Castro, Mayor, City of San Antonio, P.O. Box 839966, San Antonio, TX 78283 | August 11, 2011 | 480045
Bexar | City of Selma (09-06-3178P) | April 6, 2011; April 13, 2011; The Hart Beat | The Honorable Tom Daly, Mayor, City of Selma, 9375 Corporate Drive, Selma, TX 78154 | March 30, 2011 | 480046
Collin | City of Frisco (11-06-1691P) | April 1, 2011; April 8, 2011; The Frisco Enterprise | The Honorable Maher Maso, Mayor, City of Frisco, 6101 Frisco Square Boulevard, Frisco, TX 75034 | March 25, 2011 | 480134
Collin | City of Royse City (10-06-1217P) | September 22, 2010; September 29, 2010; The Royse City Herald Banner | The Honorable Jerrell Baley, Mayor, City of Royse City, P.O. Box 638, Royse City, TX 75189 | January 27, 2011 | 480548
Collin | Unincorporated areas of Collin County (10-06-1217P) | September 22, 2010; September 29, 2010; The Dallas Morning News | The Honorable Keith Self, Collin County Judge, 2300 Bloomdale Road, Suite 4192, McKinney, TX 75071 | January 27, 2011 | 480130
Dallas | City of Dallas (10-06-2771P) | March 28, 2011; April 4, 2011; The Dallas Morning News | The Honorable Dwaine Caraway, Mayor, City of Dallas, 1500 Marilla Street, Room 5EN, Dallas, TX 75201 | April 20, 2011 | 480171
Dallas | City of Garland (10-06-1854P) | March 31, 2011; April 7, 2011; The Dallas Morning News | The Honorable Ronald E. Jones, Mayor, City of Garland, P.O. Box 469002, Garland, TX 75046 | August 5, 2011 | 485471
Dallas | City of Richardson (10-06-3245P) | April 5, 2011; April 12, 2011; The Dallas Morning News | The Honorable Gary Slagel, Mayor, City of Richardson, P.O. Box 830309, Richardson, TX 75083 | August 10, 2011 | 480184
Dallas | City of Rowlett (10-06-1854P) | March 31, 2011; April 7, 2011; The Dallas Morning News | The Honorable John E. Harper, Mayor, City of Rowlett, 4000 Main Street, Rowlett, TX 75088 | August 5, 2011 | 480185
Denton | City of Denton (11-06-0102P) | March 22, 2011; March 29, 2011; The Denton Record-Chronicle | The Honorable Mark Burroughs, Mayor, City of Denton, 215 East McKinney Street, Denton, TX 76201 | July 27, 2011 | 480194
Denton | Unincorporated areas of Denton County (10-06-3227P) | March 9, 2011; March 16, 2011; The Denton Record-Chronicle | The Honorable Mary Horn, Denton County Judge, 110 West Hickory Street, 2nd Floor, Denton, TX 76201 | July 14, 2011 | 480774
Fort Bend and Waller | City of Katy (10-06-2439P) | March 3, 2011; March 10, 2011; The Katy Times and The Waller County News Citizen | The Honorable Don Elder, Jr., Mayor, City of Katy, 901 Avenue C, Katy, TX 77493 | July 8, 2011 | 480301
Guadalupe | City of Cibolo (10-06-3676P) | April 7, 2011; April 14, 2011; The Seguin Gazette | The Honorable Jennifer Hartman, Mayor, City of Cibolo, P.O. Box 826, Cibolo, TX 78108 | August 12, 2011 | 480267
Kaufman | City of Forney (10-06-1509P) | January 20, 2011; January 27, 2011; The Forney Messenger | The Honorable Darren Rozell, Mayor, City of Forney, P.O. Box 826, Forney, TX 75126 | July 4, 2011 | 480410
Tarrant | City of Fort Worth (10-06-1954P) | October 5, 2010; October 12, 2010; The Fort Worth Star-Telegram | The Honorable Michael J. Moncrief, Mayor, City of Fort Worth, 1000 Throckmorton Street, Fort Worth, TX 76102 | February 9, 2011 | 480596
Tarrant | City of North Richland Hills (10-06-1292P) | November 5, 2010; November 12, 2010; The Fort Worth Star-Telegram | The Honorable Oscar Trevino, Mayor, City of North Richland Hills, P.O. Box 820609, Richland Hills, TX 76182 | February 28, 2011 | 480607
Tarrant | City of North Richland Hills (10-06-1455P) | September 3, 2010; September 10, 2010; The Fort Worth Star-Telegram | The Honorable Oscar Trevino, Mayor, City of North Richland Hills, P.O. Box 820609, Richland Hills, TX 76182 | August 26, 2010 | 480607
Travis | City of Austin (10-06-1285P) | December 30, 2010; January 6, 2011; The Austin American-Statesman | The Honorable Lee Leffingwell, Mayor, City of Austin, P.O. Box 1088, Austin, TX 78767 | December 23, 2010 | 480624
Travis | City of Austin (10-06-2352P) | April 6, 2011; April 13, 2011; The Austin American-Statesman | The Honorable Lee Leffingwell, Mayor, City of Austin, P.O. Box 1088, Austin, TX 78767 | August 11, 2011 | 480624
Waller | Unincorporated areas of Waller County (10-06-2439P) | March 3, 2011; March 10, 2011; The Katy Times and The Waller County News Citizen | The Honorable Glenn Beckendorff, Waller County Judge, 836 Austin Street, Suite 203, Hempstead, TX 77445 | July 8, 2011 | 480640
Williamson | City of Cedar Park (10-06-2438P) | November 11, 2010; November 18, 2010; The Hill Country News | The Honorable Bob Lemon, Mayor, City of Cedar Park, 600 North Bell Boulevard, Cedar Park, TX 78613 | March 18, 2011 | 481282
Williamson | City of Leander (09-06-3213P) | January 27, 2011; February 3, 2011; The Leander Ledger | The Honorable John Cowman, Mayor, City of Leander, P.O. Box 319, Leander, TX 78646 | June 3, 2011 | 481536
Virginia: Frederick | Unincorporated areas of Frederick County (11-03-0191P) | December 28, 2010; January 4, 2011; The Winchester Star | The Honorable Richard C. Shickle, Chairman, Frederick County Board of Supervisors, 292 Green Spring Road, Winchester, VA 22603 | May 4, 2011 | 510063

(Catalog of Federal Domestic Assistance No. 97.022, “Flood Insurance.”)

Dated: July 8, 2011.
Sandra K. Knight,
Deputy Federal Insurance and Mitigation Administrator, Mitigation, Department of Homeland Security, Federal Emergency Management Agency.

[FR Doc. 2011-18619 Filed 7-22-11; 8:45 am]

BILLING CODE 9110-12-P